FARM CREDIT ADMINISTRATION

12 CFR Part 615

RIN 3052-AD35

Organization; Funding and Fiscal Affairs, Loan Policies and Operations, and Funding Operations; Investment Eligibility

AGENCY: Farm Credit Administration.

ACTION: Notification of effective date.

SUMMARY: The Farm Credit Administration (FCA or we) issued a final rule that amends its investment regulations to authorize Farm Credit System (FCS or System) associations to purchase in the secondary market and hold as investments, portions of loans that non-FCS lenders originate, and that the United States Department of Agriculture (USDA) fully and unconditionally guarantees or insures as to the timely payment of principal and interest. In accordance with statute, the effective date of the final rule is no earlier than 30 days from the date of publication in the Federal Register during which either or both House of Congress are in session.

DATES: The final rule regulation amending 12 CFR part 615 published on October 6, 2020 (85 FR 62945), and corrected on November 6, 2020 (85 FR 62949), is effective as of December 23, 2020.

FOR FURTHER INFORMATION CONTACT: Technical information: David J. Lewandrowski, Senior Policy Analyst, Finance & Capital Market Team, Office of Regulatory Policy, (703) 883-4414, TTY (703) 883-4056, lewandrowskid@fca.gov.

Legal information: Richard A. Katz, Senior Counsel, Office of General Counsel, (703) 883-4020, TTY (703) 883-4056, katzr@fca.gov.

SUPPLEMENTARY INFORMATION: On August 13, 2020, the FCA issued a final rule that amended § 615.5140(b) so FCS associations are authorized to purchase in the secondary market and hold as investments, portions of loans that non-System lenders originate, and the USDA fully and unconditionally guarantees as to the payment of principal and interest. The final rule was published in the Federal Register on October 6, 2020.

In accordance with 12 U.S.C. 2252(c)(1), the effective date of the final rule is no earlier than 30 days from the date of publication in the Federal Register during which either or both Houses of Congress are in session. Based on the records of the sessions of Congress, the effective date of the regulation is December 23, 2020.

Dated: December 7, 2020.
Dale Aultman,
Secretary, Farm Credit Administration Board.

[FR Doc. 2020-27144 Filed 12-22-20; 8:45 am]

BILLING CODE 6705-01-P